DEPARTMENT OF COMMERCE

International Trade Administration

[A-602-809]

Certain Hot-Rolled Steel Flat Products From Australia: Final Results of Antidumping Duty Administrative Review and Final Rescission of Review, in Part; 2018-2019

AGENCY: Enforcement and Compliance, International Trade Administration, Department of Commerce.

SUMMARY: The Department of Commerce (Commerce) determines that sales of certain hot-rolled steel flat products (hot-rolled steel) from Australia were made at less than normal value during the period of review (POR), October 1, 2018, through September 30, 2019.

DATES: Applicable August 23, 2021.

FOR FURTHER INFORMATION CONTACT: Allison Hollander, AD/CVD Operations, Office I, Enforcement and Compliance, International Trade Administration, U.S. Department of Commerce, 1401 Constitution Avenue NW, Washington, DC 20230; telephone: (202) 482-2805.

SUPPLEMENTARY INFORMATION:

Background

On February 23, 2021, Commerce published the Preliminary Results of the 2018-2019 administrative review of the antidumping duty order on hot-rolled steel from Australia in the Federal Register.¹ This review covers one producer/exporter of subject merchandise, the collapsed entity, BlueScope Steel (AIS) Pty Ltd., BlueScope Steel Ltd., and BlueScope Steel Distribution Pty Ltd. (collectively, BlueScope). We invited interested parties to comment on the Preliminary Results and received case and rebuttal briefs.² On May 18, 2021, Commerce extended the deadline for the final results of review by 60 days to no later than August 20, 2021.³ A complete summary of the events that occurred since publication of the Preliminary Results is found in the Issues and Decision Memorandum.⁴ Commerce conducted this review in accordance with section 751 of the Tariff Act of 1930, as amended (the Act).

¹ See Certain Hot-Rolled Steel Flat Products from Australia: Preliminary Results of Antidumping Duty Administrative Review and Intent To Rescind Review, in Part; 2018-2019 86 FR 10923 (February 23, 2021) (Preliminary Results), and accompanying Preliminary Decision Memorandum.

² The petitioners in this review are United States Steel Corporation, AK Steel Corporation, ArcelorMittal USA LLC, Nucor Corporation, Steel Dynamics, Inc. See Petitioners' Letter, “Hot-Rolled Steel Flat Products from Australia: Petitioners' Case Brief,” dated March 25, 2021; see also BlueScope's Letter, “Case Brief of BlueScope Steel Ltd: Certain Hot-Rolled Steel Products from Australia,” dated March 25, 2021; the Petitioners' Letter, “Hot-Rolled Steel Flat Products from Australia: Petitioners' Rebuttal Brief,” dated April 6, 2021; and BlueScope's Letter, “Rebuttal Brief of BlueScope Steel Ltd: Certain Hot-Rolled Steel Products from Australia,” dated April 6, 2021.

³ See Memorandum, “Certain Hot-Rolled Steel Flat Products from Australia: Extension of Deadline for Final Results of Antidumping Duty Administrative Review; 2018-2019,” dated May 18, 2021.

⁴ See Memorandum, “Hot Rolled Steel Flat Products from Australia: Decision Memorandum for Final Results of Antidumping Duty Administrative Review; 2018-2019,” dated concurrently with, and hereby adopted by, this notice (Issues and Decision Memorandum).

Scope of the Order

The products covered by this Order ⁵ are hot-rolled steel. A full description of the scope of the Order is contained in the Issues and Decision Memorandum.

⁵ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

Analysis of Comments Received

All issues raised in the case and rebuttal briefs filed by interested parties in this review are addressed in the Issues and Decision Memorandum. A list of the issues that parties raised, and to which we responded in the Issues and Decision Memorandum, follows as an appendix to this notice. The Issues and Decision Memorandum is a public document and is made available to the public via Enforcement and Compliance's Antidumping and Countervailing Duty Centralized Electronic Service System (ACCESS). ACCESS is available to registered users at https://access.trade.gov. In addition, a complete version of the Issues and Decision Memorandum is available at http://enforcement.trade.gov/frn/.

Rescission of Review in Part

As stated in the Preliminary Results, Commerce inadvertently included as subject to the review, a U.S. company, i.e., AJU Steel USA Inc., for which a review should not have been initiated. We received no comments from interested parties with respect to Commerce's intent to rescind the review with respect to AJU Steel USA Inc. Therefore, we are rescinding this administrative review, in part, with respect to AJU Steel USA Inc.

Changes Since the Preliminary Results

Based on a review of the record and comments received from interested parties regarding our Preliminary Results, and for the reasons explained in the Issues and Decision Memorandum, we made certain changes for these final results of review.

Final Results of the Administrative Review

We determine that the following weighted-average dumping margin exists for the period October 1, 2018, through September 30, 2019:

Exporter/producer | Weighted-average dumping margin (percent)
BlueScope Steel (AIS) Pty Ltd, BlueScope Steel Ltd., and BlueScope Steel Distribution Pty Ltd | 9.94

Disclosure

We intend to disclose the calculations performed in connection with these final results to parties in this proceeding within five days after public announcement of the final results, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review.

For BlueScope, we calculated importer-specific assessment rates on the basis of the ratio of the total amount of dumping calculated for each importer's examined sales and the total entered value of those same sales in accordance with 19 CFR 351.212(b)(1).⁶ Where an importer-specific assessment rate is zero or de minimis, the entries by that importer will be liquidated without regard to antidumping duties. For entries of subject merchandise during the POR produced by BlueScope for which it did not know the merchandise was destined for the United States, we will instruct CBP to liquidate unreviewed entries at the all-others rate if there is no rate for the intermediate company(ies) involved in the transaction.⁷

⁶ In these final results, Commerce applied the assessment rate calculation method adopted in Antidumping Proceedings: Calculation of the Weighted-Average Dumping Margin and Assessment Rate in Certain Antidumping Proceedings: Final Modification, 77 FR 8101, 8103 (February 14, 2012).

⁷ See Antidumping and Countervailing Duty Proceedings: Assessment of Antidumping Duties, 68 FR 23954 (May 6, 2003).

For any suspended entries of hot-rolled steel from AJU Steel USA Inc., we will instruct CBP to assess antidumping duties at the rate equal to the cash deposit rate of estimated antidumping duties required at the time of entry, or withdrawal from warehouse for consumption.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of this notice for all shipments of hot-rolled steel from Australia entered, or withdrawn from warehouse, for consumption on or after the date of publication as provided by section 751(a)(2)(C) of the Act: (1) The cash deposit rate for BlueScope will be equal to the weighted-average dumping margin established in the final results of the review; (2) for merchandise exported by producers or exporters not covered in this review but covered in a prior segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 29.58 percent, the all-others rate established in the less-than-fair-value investigation.⁸ These cash deposit requirements, when imposed, shall remain in effect until further notice.

⁸ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of administrative review in accordance with sections 751(a)(1) and 777(i)(1) of the Act, and 19 CFR 351.221.

Dated: August 17, 2021.
Christian Marsh,
Acting Assistant Secretary for Enforcement and Compliance.

Appendix—List of Topics Discussed in the Issues and Decision Memorandum

I. Summary

II. Background

III. Scope of the Order

IV. Changes to the Preliminary Results

V. Discussion of the Issues

Comment 1: Reimbursement of Antidumping Duties

Comment 2: Calculation of Constructed Export Price Profit

Comment 3: Non-Prime Product Costs

Comment 4: Home-Market Price Adjustments

Comment 5: Calculation of Further Manufacturing Expenses

Comment 6: Calculation of Home-Market Movement Expenses

VI. Recommendation

[FR Doc. 2021-18088 Filed 8-20-21; 8:45 am]

BILLING CODE 3510-DS-P